DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Dissemination Events and Registrations.

Form Number(s): None.

Agency Approval Number: 0651-00xx.

Type of Request: New collection.

Burden: 328 hours annually.

Number of Respondents: 4,100 responses per year.

Avg. Hours Per Response: The USPTO estimates that it takes 5 minutes (0.08 hours) to complete the event and PTDL (Patent and Trademark Depository Library) registrations, whether they are completed electronically or mailed to the USPTO. This includes the time to gather the necessary information, prepare the registration request, and submit it to the USPTO.

Needs and Uses: Under 35 U.S.C. 2(A)(2) the USPTO is “responsible for disseminating to the public information with respect to patents and trademarks.” The USPTO sponsors various events and collects information from both the public and the partnership members to plan these events and to arrange for the security of the events, if necessary. The public and PTDL members use the registration forms in this collection to request access to the USPTO-sponsored events. The USPTO uses the information collected from the registrations to plan for the various events, such as outreach to independent inventors, assistance to small businesses, and meetings discussing the prevention of unlawful intellectual property practices, international trends, cooperation between intellectual property entities, and long-term goals.

Affected Public: Individuals or households and businesses or other for-profits.

Frequency: On occasion.

Respondent's Obligation: Voluntary.

OMB Desk Officer: David Rostker, (202) 395-3897.

Copies of the above information collection proposal can be obtained by any of the following methods:

• E-mail: Susan.Fawcett@uspto.gov. Include “0651-00xx Dissemination Events and Registrations copy request” in the subject line of the message.

• Fax: 571-273-0112, marked to the attention of Susan Fawcett.

• Mail: Susan K. Fawcett, Records Officer, Office of the Chief Information Officer, Customer Information Services Group, Public Information Services Division, U.S. Patent and Trademark Office, P.O. Box 1450, Alexandria, VA 22313-1450.

• Federal e-Rulemaking Portal: http://www.regulations.gov.

Written comments and recommendations for the proposed information collection should be sent on or before December 3, 2007 to David Rostker, OMB Desk Officer, Room 10202, New Executive Office Building, 725 17th Street NW., Washington, DC 20503.

Dated: October 26, 2007.
Susan K. Fawcett,
Records Officer, USPTO, Office of the Chief Information Officer, Customer Information Services Group, Public Information Services Division.

[FR Doc. E7-21500 Filed 10-31-07; 8:45 am]

BILLING CODE 3510-16-P